DEPARTMENT OF COMMERCE

International Trade Administration

[A-570-900]

Diamond Sawblades and Parts Thereof From the People's Republic of China: Preliminary Results of Antidumping Duty Administrative Review; 2011-2012

AGENCY: Enforcement and Compliance, formerly Import Administration, International Trade Administration, Department of Commerce.

SUMMARY: The Department of Commerce (the Department) is conducting an administrative review of the antidumping duty order on diamond sawblades and parts thereof (diamond sawblades) from the People's Republic of China (PRC). The period of review (POR) is November 1, 2011, through October 31, 2012. The Department has preliminarily determined that certain companies covered by this review made sales of subject merchandise at less than normal value. Interested parties are invited to comment on these preliminary results.

DATES: Effective Date: December 20, 2013.

FOR FURTHER INFORMATION CONTACT: Yang Jin Chun or Michael A. Romani, AD/CVD Operations, Office I, Enforcement and Compliance, International Trade Administration, U.S. Department of Commerce, 14th Street and Constitution Avenue NW., Washington, DC 20230; telephone: (202) 482-5760 and (202) 482-0198, respectively.

Scope of the Order

The merchandise subject to the order is diamond sawblades. The diamond sawblades subject to the order are currently classifiable under subheadings 8202 to 8206 of the Harmonized Tariff Schedule of the United States (HTSUS), and may also enter under 6804.21.00. While the HTSUS subheadings are provided for convenience and customs purposes, the written description is dispositive. A full description of the scope of the order is contained in the Preliminary Decision Memorandum.¹

¹ See the Memorandum from Deputy Assistant Secretary Christian Marsh to Acting Assistant Secretary Ronald K. Lorentzen entitled “Decision Memorandum for Preliminary Results of 2011-2012 Antidumping Duty Administrative Review: Diamond Sawblades and Parts Thereof from the People's Republic of China” dated concurrently with and hereby adopted by this notice (Preliminary Decision Memorandum).

Methodology

The Department has conducted this review in accordance with section 751(a)(1)(B) of the Tariff Act of 1930, as amended (the Act). Export price and constructed export price have been calculated in accordance with section 772 of the Act. Because the PRC is a nonmarket economy (NME) within the meaning of section 771(18) of the Act, normal value has been calculated in accordance with section 773(c) of the Act.

For a full description of the methodology underlying our conclusions, see the Preliminary Decision Memorandum. The Preliminary Decision Memorandum is a public document and is on file electronically via IA ACCESS. IA ACCESS is available to registered users at https://iaaccess.trade.gov and in the Central Records Unit, room 7046 of the main Department of Commerce building. In addition, a complete version of the Preliminary Decision Memorandum can be accessed directly on the internet at http://enforcement.trade.gov/frn/index.html. The signed Preliminary Decision Memorandum and the electronic versions of the Preliminary Decision Memorandum are identical in content.

Affiliation and Treatment of Affiliated Parties as a Single Entity

We preliminarily find that the companies which comprised ATM Single Entity in prior reviews,² i.e., Advanced Technology & Materials Co., Ltd., AT&M International Trading Co., Ltd.,³ Beijing Gang Yan Diamond Products Co., Cliff International Ltd., and HXF Saw Co., Ltd.,⁴ continue to be affiliated.⁵

² See Diamond Sawblades and Parts Thereof From the People's Republic of China: Final Results of Antidumping Duty Administrative Review; 2009-2010, 78 FR 11143, 11144 (February 15, 2013) (1st Review Final), and Diamond Sawblades and Parts Thereof From the People's Republic of China: Final Results of Antidumping Duty Administrative Review; 2010-2011, 78 FR 36166 (June 17, 2013) (2nd Review Final), and the accompanying Issues and Decision Memorandum at 2.

³ ATM International Trading Co., Ltd., a company for which we initiated this review in Initiation of Antidumping and Countervailing Duty Administrative Reviews and Request for Revocation in Part, 77 FR 77017, 77020 (December 31, 2012) (Initiation Notice), is the same company as AT&M International Trading Co., Ltd. See Diamond Sawblades and Parts Thereof From the People's Republic of China: Preliminary Results of Antidumping Duty Administrative Review and Intent To Rescind Review in Part, 76 FR 76135, 76136 (December 6, 2011), unchanged in 1st Review Final.

⁴ Yichang HXF Circular Saw Industrial Co., Ltd., changed its name to HXF Saw Co., Ltd. See Diamond Sawblades and Parts Thereof From the People's Republic of China: Preliminary Results of Antidumping Duty Administrative Review: 2010-2011, 77 FR 73417, 73419 n.14 (December 10, 2012), unchanged in 2nd Review Final (collectively 2nd Review Notices).

⁵ For a full discussion of these companies' affiliation status, see the memorandum dated December 16, 2013, which places on the record of this review the memorandum entitled “Diamond Sawblades and Parts Thereof from the People's Republic of China: ATM Single Entity,” dated December 3, 2012.

Preliminary Determination of No Shipments

The following companies, which received separate rates in previous segments of the proceeding and are subject to this review, reported that they did not have any exports of subject merchandise during the POR:

Qingdao Shinhan Diamond Industrial Co., Ltd.

Saint-Gobain Abrasives (Shanghai) Co.⁶

⁶ See the no shipment letters filed by Qingdao Shinhan and Saint-Gobain Abrasives (Shanghai) Co. on March 1, 2013. In the last completed administrative review, the Department found that Saint-Gobain Abrasives Inc., a company for which we initiated this review in Initiation Notice, 77 FR at 77020, is Saint-Gobain Abrasives (Shanghai) Co., Ltd.'s U.S. affiliate. See 2nd Review Notices, 77 FR at 73419 n,17.

CBP data for the POR corroborated these companies' no-shipment claims.⁷ Additionally, we requested that CBP report any contrary information.⁸ To date, CBP has not responded to our inquiry with any contrary information and we have not received any evidence that these companies had any shipments of the subject merchandise sold to the United States during the POR.⁹ Consistent with the Department's refinement to its assessment practice in NME cases regarding no shipment claims, we are completing the review with respect to these three companies and will issue appropriate instructions to CBP based on the final results of the review.¹⁰

⁷ See the memorandum entitled “Diamond Sawblades and Parts Thereof—Placing CBP Data on the record of this review” dated January 7, 2013.

⁸ See CBP message numbers 3091303 and 3091304 dated April 1, 2013, for Qingdao Shinhan and Saint-Gobain Abrasives (Shanghai) Co., Ltd., respectively.

⁹ CBP only responds to the Department's inquiry when there are records of shipments from the company in question. See, e.g., Certain Hot-Rolled Flat-Rolled Carbon Quality Steel Flat Products From Brazil: Notice of Rescission of Antidumping Duty Administrative Review, 75 FR 65453, 65454 (October 25, 2010).

¹⁰ See Non-Market Economy Antidumping Proceedings: Assessment of Antidumping Duties, 76 FR 65694 (October 24, 2011), and the “Assessment Rates” section below.

We also received no shipment claims from China Iron and Steel Research Institute Group (CISRI) and Fujian Quanzhou Wanlong Stone Co., Ltd. (Fujian Quanzhou).¹¹ Because these two companies do not have a separate rate and remain part of the PRC entity, we are not addressing their no-shipment claims.

¹¹ See the no shipment letter filed by CISRI on March 1, 2013, and Fujian Quanzhou dated February 4, 2013.

Preliminary Results of Review

The Department preliminarily determines that the following weighted-average dumping margins exist:

Exporter | Margin (percent)
Bosun Tools Co., Ltd ¹² | 3.99
Chengdu Huifeng Diamond Tools Co., Ltd | 4.90
Danyang Huachang Diamond Tools Manufacturing Co., Ltd | 4.90
Danyang NYCL Tools Manufacturing Co., Ltd | 4.90
Danyang Weiwang Tools Manufacturing Co., Ltd | 4.90
Guilin Tebon Superhard Material Co., Ltd | 4.90
Hangzhou Deer King Industrial and Trading Co., Ltd | 4.90
Husqvarna (Hebei) Co., Ltd ¹³ | 4.90
Huzhou Gu's Import & Export Co., Ltd ¹⁴ | 4.90
Jiangsu Fengtai Diamond Tool Manufacture Co., Ltd | 4.90
Jiangsu Inter-China Group Corporation ¹⁵ | 4.90
Jiangsu Youhe Tool Manufacturer Co., Ltd ¹⁶ | 4.90
Qingyuan Shangtai Diamond Tools Co., Ltd | 4.90
Quanzhou Zhongzhi Diamond Tool Co. Ltd | 4.90
Rizhao Hein Saw Co., Ltd | 4.90
Shanghai Jingquan Ind. Trade Co., Ltd | 4.90
Shanghai Robtol Tool Manufacturing Co., Ltd | 4.90
Weihai Xiangguang Mechanical Industrial Co., Ltd | 6.05
Wuhan Wanbang Laser Diamond Tools Co | 4.90
Xiamen ZL Diamond Technology Co., Ltd ¹⁷ | 4.90
Zhejiang Wanli Tools Group Co., Ltd | 4.90
PRC-Wide Entity ¹⁸ | 164.09

¹² Bosun Tools Co., Ltd. was previously known as Bosun Tools Group Co., Ltd., a company for which we initiated this review in Initiation Notice, 77 FR at 77020. See 2nd Review Notices. Also, Bosun Tools Co., Ltd., reported that Bosun Tools Inc. USA, a company for which we initiated this review in Initiation Notice, 77 FR at 77020, is its U.S. affiliate. See, e.g., Bosun Tools Co., Ltd.'s section A response dated April 1, 2013, at 1.

¹³ Husqvarna (Hebei) Co., Ltd., reported that Husqvarna Construction Products North America, Inc., a company for which we initiated this review in Initiation Notice, 77 FR at 77020, is its U.S. affiliate. See Husqvarna (Hebei) Co., Ltd.'s SRA dated March 5, 2013. Husqvarna (Hebei) Co., Ltd., is also the successor-in-interest to Hebei Husqvarna-Jikai Diamond Tools Co., Ltd. See Diamond Sawblades and Parts Thereof From the People's Republic of China: Final Results of Antidumping Duty Changed Circumstances Review, 78 FR 48414 (August 8, 2013).

¹⁴ Huzhou Gu's Import & Export Co., Ltd., uses the name Huzhou Gu's Imp. & Exp. Co., Ltd., interchangeably. See the memorandum to the File entitled “Diamond Sawblades and Parts Thereof from the People's Republic of China: Placement of Document on the Record for Huzhou Gu's Import & Export Co., Ltd.,” dated November 5, 2013.

¹⁵ Jiangsu Inter-China Group Corporation was previously known as Zhenjiang Inter-China Import & Export Co., Ltd., a company for which we initiated this review in Initiation Notice, 77 FR at 77020. See 2nd Review Notices, 77 FR at 73419 n.15.

¹⁶ Jiangsu Youhe Tool Manufacturer Co., Ltd., was previously known as Danyang Youhe Tool Manufacturer Co., Ltd., a company for which we initiated this review in Initiation Notice, 77 FR at 77020. Id. at n.16.

¹⁷ Xiamen ZL Diamond Technology Co., Ltd., stated in its separate rate application that its name before the POR was Xiamen ZL Diamond Tools Co., Ltd., for which we initiated this review in Initiation Notice, 77 FR at 77020. See Xiamen ZL Diamond Technology Co., Ltd.'s February 27, 2013, separate rate application at 2.

¹⁸ The deadline to file a separate rate application, separate rate certification, or a notification of no sales, exports or entries is 60 days after the initiation of the administrative review, which in this review was March 1, 2013. On February 22, 2013, Husqvarna requested an extension to file its SRA. On February 28, 2013, we granted Husqvarna's request and extended the due date to March 8, 2013. Husqvarna submitted its SRA on March 5, 2013. Therefore, as of March 2, 2013, the remaining companies under review that did not demonstrate eligibility for a separate rate without filing a request for an extension of due date for a separate rate application or certification were part of the PRC-wide entity. Also, we preliminarily are denying ATM Single Entity a separate rate status. Accordingly, the PRC-wide entity includes the following companies: ATM Single Entity, Central Iron and Steel Research Institute Group, CISRI, Danyang Aurui Hardware Products Co., Ltd., Danyang City Ou Di Ma Tools Co., Ltd., Danyang Dida Diamond Tools Manufacturing Co., Ltd., Danyang Tsunda Diamond Tools Co., Ltd., Electrolux Construction Products (Xiamen) Co. Ltd., Fujian Quanzhou, Hebei Jikai Industrial Group Co., Ltd., Huachang Diamond Tools Manufacturing Co., Ltd., Hua Da Superabrasive Tools Technology Co., Ltd., Jiangsu Fengyu Tools Co., Ltd., Jiangyin Likn Industry Co., Ltd., Protech Diamond Tools, Pujiang Talent Diamond Tools Co., Ltd., Quanzhou Shuangyang Diamond Tools Co., Ltd., Quanzhou Zongzhi Diamond Tool Co. Ltd., Shanghai Deda Industry & Trading Co., Ltd., Shijiazhuang Global New Century Tools Co., Ltd., Sichuan Huili Tools Co., Task Tools & Abrasives, Wanli Tools Group, Wuxi Lianhua Superhard Material Tools Co., Ltd., Zhejiang Tea Import & Export Co., Ltd., Zhejiang Wanda Import and Export Co., Zhejiang Wanda Tools Group Corp., and Zhejiang Wanli Super-hard Materials Co., Ltd.

Disclosure and Public Comment

The Department will disclose calculations performed for these preliminary results to the parties within five days of the date of publication of this notice in accordance with 19 CFR 351.224(b). Pursuant to 19 CFR 351.309(c), interested parties may submit cases briefs no later than 30 days after the date of publication of these preliminary results of review.¹⁹ Parties who submit arguments are requested to submit with the argument: (1) A statement of the issue; (2) a brief summary of the argument; and (3) a table of authorities.²⁰ Rebuttal briefs, limited to issues raised in the case briefs, may be filed no later than five days after the cases briefs are filed.

¹⁹ See 19 CFR 351.309(c).

²⁰ See 19 CFR 351.309(c)(2).

Interested parties who wish to request a hearing, or to participate if one is requested, must submit a written request to the Assistant Secretary for Enforcement and Compliance, U.S. Department of Commerce, filed electronically using IA ACCESS. An electronically filed document must be received successfully in its entirety by the Department's IA ACCESS by 5:00 p.m. Eastern Time within 30 days after the date of publication of this notice.²¹ Hearing requests should contain (1) the party's name, address, and telephone number; (2) the number of participants; and (3) a list of issues to be discussed. Oral presentations will be limited to issues raised in the briefs. If a request for a hearing is made, we will inform parties of the scheduled date for the hearing which will be held at the U.S. Department of Commerce, 14th Street and Constitution Avenue NW., Washington, DC 20230, at a time and location to be determined.²² Parties should confirm by telephone or email the date, time, and location of the hearing.

²¹ See 19 CFR 351.310(c).

²² Id.

Unless the deadline is extended pursuant to section 751(a)(3)(A) of the Act, the Department will issue the final results of these reviews, including the results of its analysis of issues raised by parties in their comments, within 120 days after the publication of these preliminary results, pursuant to section 751(a)(3)(A) of the Act and 19 CFR 351.213(h)(2).

Deadline for Submission of Publicly Available Surrogate Value Information

In accordance with 19 CFR 351.301(c)(3)(ii), interested parties may submit publicly available information to value factors of production under 19 CFR 351.408(c) within 20 days after the date of publication of these preliminary results. In accordance with 19 CFR 351.301(c)(1), if an interested party submits factual information less than ten days before, on, or after (if the Department has extended the deadline) the applicable deadline for submission of such factual information, an interested party may submit factual information to rebut, clarify, or correct the factual information no later than ten days after such factual information is served on the interested party. However, the Department generally will not accept in the rebuttal submission additional or alternative surrogate value information not previously on the record, if the deadline for submission of surrogate value information has passed.²³ Furthermore, the Department generally will not accept business proprietary information in either the surrogate value submissions or the rebuttals thereto, as the regulation regarding the submission of surrogate values allows only for the submission of publicly available information.²⁴

²³ See, e.g., Glycine from the People's Republic of China: Final Results of Antidumping Duty Administrative Review and Final Rescission, in Part, 72 FR 58809 (October 17, 2007), and the accompanying Issues and Decision Memorandum at Comment 2.

²⁴ See 19 CFR 351.301(c)(3).

Assessment Rates

Upon issuing the final results of review, the Department will determine, and CBP shall assess, antidumping duties on all appropriate entries covered by this review.²⁵ If a respondent's weighted-average dumping margin is above de minimis (i.e., 0.50 percent) in the final results of this review, we will calculate an importer-specific assessment rate on the basis of the ratio of the total amount of dumping calculated for the importer's examined sales and the total entered value of those sales in accordance with 19 CFR 351.212(b)(1). Specifically, the Department will apply the assessment rate calculation method adopted in Final Modification for Reviews, i.e., on the basis of monthly average-to-average comparisons using only the transactions associated with that importer with offsets being provided for non-dumped comparisons.²⁶ Where an importer- (or customer-) specific ad valorem rate is zero or de minimis, we will instruct CBP to liquidate appropriate entries without regard to antidumping duties.²⁷

²⁵ See 19 CFR 351.212(b)(1).

²⁶ See Antidumping Proceeding: Calculation of the Weighted-Average Dumping Margin and Assessment Rate in Certain Antidumping Duty Proceedings; Final Modification, 77 FR 8103 (February 14, 2012) (Final Modification for Reviews).

²⁷ See 19 CFR 351.106(c)(2).

On October 24, 2011, the Department announced a refinement to its assessment practice in NME cases.²⁸ Pursuant to this refinement in practice, for entries that were not reported in the U.S. sales databases submitted by companies individually examined during this review, the Department will instruct CBP to liquidate such entries at the PRC-wide rate. In addition, if the Department determines that an exporter under review had no shipments of the subject merchandise, any suspended entries that entered under that exporter's case number (i.e., at that exporter's rate) will be liquidated at the PRC-wide rate.²⁹ The Department intends to issue appropriate assessment instructions directly to CBP 15 days after publication of the final results of review.

²⁸ For a full discussion of this practice, see Non-Market Economy Antidumping Proceedings: Assessment of Antidumping Duties, 76 FR 65694 (October 24, 2011).

²⁹ Id.

Cash Deposit Requirements

The following cash deposit requirements will be effective upon publication of the final results of this administrative review for shipments of the subject merchandise from the PRC entered, or withdrawn from warehouse, for consumption on or after the publication date, as provided by section 751(a)(2)(C) of the Act: (1) For subject merchandise exported by the separate-rate respondents in this review, the cash deposit rate will be that established in the final results of review (except, if the rate is zero or de minimis, then zero cash deposit will be required); (2) for previously investigated or reviewed PRC and non-PRC exporters not listed above that received a separate rate in a prior segment of this proceeding, the cash deposit rate will continue to be the existing exporter-specific rate; (3) for all PRC exporters of subject merchandise that have not been found to be entitled to a separate rate, the cash deposit rate will be that for the PRC-wide entity; and (4) for all non-PRC exporters of subject merchandise which have not received their own rate, the cash deposit rate will be the rate applicable to the PRC exporter that supplied that non-PRC exporter. These deposit requirements, when imposed, shall remain in effect until further notice.

Notification to Importers

This notice serves as a preliminary reminder to importers of their responsibility under 19 CFR 351.402(f)(2) to file a certificate regarding the reimbursement of antidumping duties prior to liquidation of the relevant entries during this review period. Failure to comply with this requirement could result in the Department's presumption that reimbursement of antidumping duties occurred and the subsequent assessment of double antidumping duties.

We are issuing and publishing these results in accordance with sections 751(a)(1) and 777(i)(1) of the Act and 19 CFR 351.213.

Dated: December 16, 2013.
Ronald K. Lorentzen,
Acting Assistant Secretary for Enforcement and Compliance.

Appendix—List of Topics Discussed in the Preliminary Decision Memorandum

A. Summary

B. Background

C. Scope of the Order

D. Preliminary Determination of No Shipments

E. Discussion of the Methodology

1. Nonmarket Economy Country Status

2. Separate Rates

3. Surrogate Country

F. Affiliation

G. Fair Value Comparisons

1. Determination of Comparison Method

2. Results of the Differential Pricing Analysis

3. U.S. Price

4. Normal Value

5. Factor Valuations

H. Currency Conversion

I. Recommendation

[FR Doc. 2013-30338 Filed 12-19-13; 8:45 am]

BILLING CODE 3510-DS-P